DEPARTMENT OF ENERGY

Federal Energy Regulatory Commission

[Project Nos. 2558-030; 2445-023; 2558-029; 2445-023; 2558-029]

Vermont Marble Power, Division of Omya Inc.; Central Vermont Public Service Corporation; Notice of Application of Transfer of Licenses, Substitution of Relicense Applicant, and Soliciting Comments and Motions To Intervene

October 12, 2010.

On August 31, 2010, Vermont Marble Power, Division of Omya Inc. (transferor) and Central Vermont Public Service Corporation (transferee) filed an application for the transfer of licenses for the Otter Creek Hydroelectric Project No. 2558, and the Center Rutland Project No. 2445, located on the Otter Creek in Addison and Rutland Counties, Vermont. On October 8, 2010, the transferor and transferee filed a joint request to substitute the transferee for the transferor as the applicant in the pending application for a new license filed by the transferor in Project No. 2558-029.

The transfer application was filed within five years of the expiration of the license for Project No. 2558, which is the subject of pending relicensing applications. In Hydroelectric Relicensing Regulations Under the Federal Power Act (54 FR 23,756 FERC Stats. and Regs., Regs. Preambles 1986-1990 30,854 at p. 31,437), the Commission declined to forbid all license transfers during the last five years of an existing license, and instead indicated that it would scrutinize all such transfer requests to determine if the transferor's primary purpose was to give the transferee an advantage in relicensing.

Applicant Contacts: For transferor: Todd Allard, Operations Engineer Omya, Inc., Vermont Marble Power, 9987 Carver Road, Suite 300, Cincinnati, OH 45252, (513) 387-4344. Andrew D. Qua, Project Manager, Klienschmidt Associates, 75 Main Street, P.O. Box 576, Pittsfield, ME 04967, (207) 487-3328. For transferee: Dale A. Rocheleau, Esq., Senior Vice President, General Counsel and Corporate Secretary, 77 Grove Street, Rutland, VT 05701-3400, (802) 747-5355.

FERC Contact: Kim Carter (202) 502-6486.

Deadline for filing comments and motions to intervene: 30 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street, NE., Washington, DC 20426. More information about this project can be viewed or printed on the eLibrary link of Commission's Web site at http://www.ferc.gov/docs-filing/elibrary.asp. Enter the docket number (P-2558, P-2445) in the docket number field to access the document. For assistance, call toll-free 1-866-208-3372.

Kimberly D. Bose,
Secretary.

[FR Doc. 2010-26244 Filed 10-18-10; 8:45 am]

BILLING CODE 6717-01-P